COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/9/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 5/4/2012 (77 FR 26520-26521) and 5/11/2012 (77 FR 27737-27738), the Committee for Purchase From People Who Are Blind or Severely Disabled published notices of proposed additions to the Procurement List.

After consideration of the material presented to it concerning capability of qualified nonprofit agencies to provide the products and services and impact of the additions on the current or most recent contractors, the Committee has determined that products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Steel Roller Mop and Refill

NSN: 7920-01-383-7927—Refill, Sponge Head

NSN: 7920-01-383-7799—Roller Mop, Industrial Steel, 12” Head

NPA: Industries for the Blind, Inc., West Allis, WI

Contracting Activity: GENERAL SERVICES ADMINISTRATION, FORT WORTH, TX

Coverage: B-List for the Broad Government Requirement as aggregated by the General Services Administration.

Nuts, Flexible Packaging

NSN: 8925-01-E62-1745—Almonds, Shelled, Sliced, Natural (2lb bag)

NSN: 8925-01-E62-1746—Almonds, Shelled, Sliced, Blanched (2lb bag)

NSN: 8925-01-E62-1747—Almonds, Shelled, Slivered, Blanched (2lb bag)

NSN: 8925-01-E62-1748—Walnuts, English, Shelled, Halves and Pieces (2lb bag)

NSN: 8925-01-E62-1749—Walnuts, English, Shelled, Halves and Pieces (2.5lb bag)

NPA: DePaul Industries, Portland, OR

Contracting Activity: Defense Logistics Agency Troop Support, Philadelphia, PA

Coverage: C-List for 100% of the requirement of the Department of Defense, as aggregated by the Defense Logistics Agency Troop Support, Philadelphia, PA.

A comment was received from a contractor inferring that his company currently furnishes products to the Government that are the same or similar to the product specified in this proposal and the addition of the product to the Procurement List will adversely affect their business.

The Committee for Purchase From People Who Are Blind or Severely Disabled (Committee) operates pursuant to statutory and regulatory requirements. Committee regulations state that a commodity is not suitable for the Procurement List if there is “severe adverse impact on the current contractor for the specific commodity or service.”

Information the Committee received from the contracting activity revealed that the contractor submitting the comment is not a current contractor providing this product to the Government. Consequently, in this instance, there is no severe adverse impact and the Committee can properly determine if this product is suitable for addition to the Procurement List.

Services

Service Type/Location: Custodial Services, Caribou-Targhee National Forest, St. Anthony Supervisor's Office, U.S. Forest Service, 499 N 2400 E St., St. Anthony, ID.

NPA: Development Workshop, Inc., Idaho Falls, ID.

Contracting Activity: Dept. of Agriculture, Forest Service, Caribou-Targhee National Forest, Idaho Falls, ID.

Service Type/Location: Custodial Service, Child Care Facilities, Buildings 615, 616 and 9625, Fort Leonard Wood, MO.

NPA: Challenge Unlimited, Inc., Alton, IL.

Contracting Activity: Dept. of the Army, W6QM MICC-Ft Leonard Wood, Fort Leonard Wood, MO.

Service Type/Location: Document Destruction Service, U.S. Department of Agriculture, 6200 Jefferson St. NE., Albuquerque, NM.

NPA: Adelante Development Center, Inc., Albuquerque, NM.

Contracting Activity: Department of Agriculture, Natural Resources Conservation Service, Soil Conservation Service, Albuquerque, NM.

Barry S. Lineback,
Director, Business Operations.

[FR Doc. 2012-16700 Filed 7-6-12; 8:45 am]

BILLING CODE 6353-01-P